DEPARTMENT OF HEALTH AND HUMAN SERVICES

Announcement of Availability of the Report on Carcinogens, Thirteenth Edition

AGENCY: National Toxicology Program (NTP), National Institute of Environmental Health Sciences (NIEHS); National Institutes of Health (NIH).

ACTION: Availability of the Report on Carcinogens, Thirteenth Edition (13th RoC).

SUMMARY: The Department of Health and Human Services released the 13th RoC to the public on October 2, 2014. The report is available on the RoC Web site at: http://ntp.niehs.nih.gov/go/roc13 or electronically from the Office of the RoC (see ADDRESSES below).

DATES: The 13th RoC is available to the public on October 2, 2014.

ADDRESSES: Dr. Ruth Lunn, Director, Office of the RoC, NTP, NIEHS, P.O. Box 12233, MD K2-14, Research Triangle Park, NC 27709; telephone: (919) 316-4637; FAX: (301) 480-2970; lunn@niehs.nih.gov.

FOR FURTHER INFORMATION CONTACT: Questions or comments concerning the 13th RoC should be directed to Dr. Ruth Lunn (telephone: (919) 316-4637 or lunn@niehs.nih.gov).

SUPPLEMENTARY INFORMATION:

Background Information on the RoC

The RoC is a congressionally mandated document that identifies and discusses agents, substances, mixtures, or exposure circumstances (collectively referred to as “substances”) that may pose a hazard to human health by virtue of their carcinogenicity. Substances are listed in the report as either known or reasonably anticipated to be human carcinogens. The listing of a substance in the RoC indicates a potential hazard, but does not establish the exposure conditions that pose a cancer hazard to individuals in their daily lives. For each listed substance, the RoC provides information from cancer studies that support the listing as well as information about potential sources of exposure and current federal regulations to limit exposures. Each edition of the RoC is cumulative, that is, it lists newly reviewed substances in addition to substances listed in the previous edition. Information about the RoC is available on the RoC Web site (http://ntp.niehs.nih.gov/go/roc13) or by contacting Dr. Lunn (see ADDRESSES above).

The NTP prepares the RoC on behalf of the Secretary of Health and Human Services. For the 13th RoC, the NTP followed an established, multi-step process with multiple opportunities for public input, and used established criteria to evaluate the scientific evidence on each candidate substance under review (http://ntp.niehs.nih.gov/go/rocprocess).

New Listings to the 13th RoC

The 13th RoC contains 243 listings, some of which consist of a class of structurally related chemicals or agents. There are three new listings and one revised listing in this edition. The revised listing is for ortho-toluidine, which was previously listed as reasonably anticipated to be a human carcinogen and is now listed as known to be a human carcinogen. The new listings in the 13th RoC are three substances—1-bromopropane, cumene, and pentachlorophenol and by-products of its synthesis—each listed as reasonably anticipated to be a human carcinogen.

Dated: September 26, 2014.
Linda S. Birnbaum,
Director, National Institute of Environmental Health Sciences, and National Toxicology Program.

[FR Doc. 2014-23748 Filed 10-3-14; 8:45 am]

BILLING CODE 4140-01-P